DEPARTMENT OF THE INTERIOR

Office of the Secretary

43 CFR Part 10

[NPS-WASO-NAGPRA-33190; PPWOCRADN0-PCU00RP14.550000]

RIN 1024-AE19

Native American Graves Protection and Repatriation Act Systematic Process for Disposition and Repatriation of Native American Human Remains, Funerary Objects, Sacred Objects, and Objects of Cultural Patrimony—Extension of Public Comment Period

AGENCY: Office of the Secretary, Interior.

ACTION: Proposed rule; extension of public comment period.

SUMMARY: The Department of the Interior is extending the public comment period for the proposed rule to amend regulations to improve implementation of the Native American Graves Protection and Repatriation Act of 1990. Extending the comment period will allow more time for the public to review the proposal and submit comments.

DATES: The comment period for the proposed rule published on October 18, 2022 (87 FR 63202), is extended. Comments must be received by 11:59 p.m. EST on January 31, 2023.

ADDRESSES: You may submit written comments, identified by the Regulation Identifier Number (RIN) 1024-AE19, by any one of the following methods:

• Federal eRulemaking Portal: https://www.regulations.gov. Follow the instructions for submitting comments.

• Mail to: National NAGPRA Program, National Park Service, 1849 C Street NW, Mail Stop 7360, Washington, DC 20240. Attn: Melanie O'Brien, Manager NAGPRA Rule Comments.

Instructions: All submissions received must include the words “National Park Service” or “NPS” and the RIN (1024-AE19) for this rulemaking. Comments received may be posted without change to https://www.regulations.gov, including any personal information provided. Written comments will not be accepted by fax, email, or in any way other than those specified above. The NPS will not accept bulk comments in any format (hard copy or electronic) submitted on behalf of others.

FOR FURTHER INFORMATION CONTACT: Melanie O'Brien, National NAGPRA Program, National Park Service, (202) 354-2201, melanie_o'brien@nps.gov.

SUPPLEMENTARY INFORMATION: On October 18, 2022, the Department of the Interior (DOI) published in the Federal Register (87 FR 63202) a proposed rule to amend the regulations to improve implementation of the Native American Graves Protection and Repatriation Act of 1990. These proposed regulations would clarify and improve upon the systematic process for the disposition and repatriation of Native American human remains, funerary objects, sacred objects, or objects of cultural patrimony. The proposed changes would provide a step-by-step roadmap for museums and Federal agencies to comply with requirements within specific timelines to facilitate the required disposition and repatriation. The proposed changes would describe the processes in accessible language with clear timelines and terms, reduce ambiguity, and improve efficiency in meeting the requirements. In addition, the proposed changes emphasize consultation in every step and defer to the customs, traditions, and Native American traditional knowledge of lineal descendants, Indian Tribes, and Native Hawaiian organizations. The public comment period for this proposal is scheduled to close on Tuesday, January 17, 2023. In order to give the public additional time to review and comment on the proposal, the DOI is extending the public comment period until Tuesday, January 31, 2023. Comments previously submitted on the proposed rule need not be resubmitted, as they will be fully considered in preparing the final rule.

Shannon Estenoz,
Assistant Secretary for Fish and Wildlife and Parks.

[FR Doc. 2023-00360 Filed 1-9-23; 8:45 am]

BILLING CODE 4312-52-P